DEPARTMENT OF HEALTH AND HUMAN SERVICES

Administration for Children and Families

Notice of Allotment Percentages to States for Child Welfare Services State Grants

AGENCY: Administration on Children, Youth and Families, Administration for Children and Families, Department of Health and Human Services.

ACTION: Biennial publication of allotment percentages for States under the Title IV-B subpart 1, Child Welfare Services State Grants Program (CFDA No. 93.645).

SUMMARY: As required by section 423(c) of the Social Security Act (42 U.S.C. 623(c)), the Department is publishing the allotment percentage for each State under the Title IV-B Subpart 1, Child Welfare Services State Grants Program. Under section 423(a), the allotment percentages are one of the factors used in the computation of the Federal grants awarded under the Program.

DATES: Effective Date: The allotment percentages shall be effective for Fiscal Years 2010 and 2011.

FOR FURTHER INFORMATION CONTACT: Deborah Bell, Grants Fiscal Management Specialist, Office of Grants Management, Office of Administration, Administration for Children and Families, telephone (202) 401-4611.

SUPPLEMENTARY INFORMATION: The allotment percentage for each State is determined on the basis of paragraphs (b) and (c) of section 423 of the Act. These figures are available on the ACF homepage on the Internet: http://www.acf.dhhs.gov/programs/cb/. The allotment percentage for each State is as follows:

State | Allotment percentage
Alabama | 57.84
Alaska | 48.05
Arizona | 56.38
Arkansas | 61.11
California | 46.00
Colorado | 45.84
Connecticut | 29.80
Delaware | 47.41
District of Columbia | 30.00
Florida | 49.99
Georgia | 55.97
Hawaii | 49.58
Idaho | 58.77
Illinois | 47.38
Indiana | 56.49
Iowa | 54.98
Kansas | 53.08
Kentucky | 59.84
Louisiana | 57.58
Maine | 55.90
Maryland | 39.77
Massachusetts | 36.86
Michigan | 54.78
Minnesota | 46.78
Mississippi | 63.23
Missouri | 55.60
Montana | 57.46
Nebraska | 53.19
Nevada | 47.38
New Hampshire | 46.11
New Jersey | 36.67
New Mexico | 60.11
New York | 40.20
North Carolina | 55.99
North Dakota | 54.67
Ohio | 54.92
Oklahoma | 55.55
Oregon | 54.50
Pennsylvania | 49.89
Rhode Island | 48.70
South Carolina | 59.40
South Dakota | 54.49
Tennessee | 56.26
Texas | 52.11
Utah | 60.33
Vermont | 52.12
Virginia | 45.62
Washington | 47.36
West Virginia | 62.02
Wisconsin | 52.98
Wyoming | 41.29
American Samoa | 70.00
Guam | 70.00
N. Mariana Islands | 70.00
Puerto Rico | 70.00
Virgin Islands | 70.00

Dated: October 21, 2008.
Joan E. Ohl,
Commissioner, Administration on Children, Youth and Families.

[FR Doc. E8-25843 Filed 10-29-08; 8:45 am]

BILLING CODE 4184-01-P